DEPARTMENT OF AGRICULTURE

Rural Housing Service

Notice of Timeframe for the Section 514 Farm Labor Housing Loans and Section 516 Farm Labor Housing Grants for Off-Farm Housing for Fiscal Year 2003; Correction

AGENCY: Rural Housing Service, USDA.

ACTION: Notice; correction.

SUMMARY: The Rural Housing Service (RHS) corrects a notice published December 27, 2002 (67 FR 79030—79033). This action is taken to correct the address of the New Jersey State Office.

Accordingly, the notice published December 27, 2002, (67 FR 79030—79033), is corrected as follows:

On page 79031 in the third column, “New Jersey State Office, Tarnsfield Plaza, Suite 22, 790 Woodland Road, Mt. Holly, NJ 08060” should read “New Jersey State Office, 5th Floor North Suite 500, 8000 Midlantic Dr., Mt. Laurel, NJ 08054''.

Dated: January 28, 2003.
Arthur A. Garcia,
Administrator, Rural Housing Service.

[FR Doc. 03-2660 Filed 2-4-03; 8:45 am]

BILLING CODE 3410-XV-P